DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 21, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for special permits is published in accordance with part 107 of the Federal hazardous materials transportation law (49 U.S.C. 5117(b); 49 CFR 1.53(b)).

Issued in Washington, DC, on January 16, 2007.
Delmer E. Billings,
Director, Office of Hazardous Materials, Special Permits & Approvals.

New Special Permit
Application No. | Docket No. | Applicant | Regulation(s) affected | Nature of special permit thereof
14452-N |  | Martek Biosciences Corporation, Winchester, KY | 49 CFR 173.241 | To authorize the transportation in commerce of certain Division 4.2 hazardous materials in non-DOT specification bulk containers. (Mode 1)
14453-N |  | FIBA Technologies, Inc., Westboro, MA | 49 CFR 180.209 | To authorize the ultrasonic testing of DOT-3A, DOT-3AA 3AX, 3AAX and 3T specification cylinders for use in transporting Division 2.1, 2.2 or 2.3 material. (Modes 1, 2, 3)
14454-N |  | Bozel (Europe), France | 49 CFR subparts D, E and F of part 172; 1 73.24(c) and subparts E and F of part 173 | To authorize the transportation in commerce of a specially designed device consisting of metal tubing containing certain hazardous materials to be transported as essentially unregulated. (Modes 1, 2, 3)
14455-N |  | EnergySolutions, LLC, Columbia, SC | 49 CFR 173.403 and 173.427(b)(1) | To authorize the transportation in commerce of Class 7 surface contaminated objects in non-DOT specification packaging. (Modes 1, 2, 3)
14457-N |  | Amtrol Alfa Metalomecanica SA, Portugal | 49 CFR 173.304a(a)(1); 175.3 | To authorize the manufacture, marking, sale and use of a non-DOT specification fully-wrapped fiberglass composite cylinder for use in transporting certain Division 2.1 flammable gases. (Modes 1, 2, 3, 4)
14458-N |  | Hawaii Superferry, Honolulu, HI | 49 CFR 172.101, Column (10A) | To authorize the transportation in commerce of limited quantities of Class 3, Class 9 and Division 2.1 hazardous materials being stowed on and below deck on passenger ferry vessels transporting motor vehicles, such as recreational vehicles, with attached cylinders of liquefied petroleum gas. (Mode 6)
14460-N |  | Real Sensors, Inc., Hayward, CA | 49 CFR part 172, subparts B, C, D, E and F | To authorize the transportation in commerce of permeation devices with a maximum volume of 6cc containing anhydrous ammonia. (Modes 1, 2, 3, 4)
14462-N |  | 3M Company, St. Paul, MN | 49 CFR 171.2(k) | To authorize the transportation in commerce of a gas that does not meet any Class 2 definition as a Division 2.2 compressed gas. (Modes 1, 2, 3, 4)

[FR Doc. 07-245 Filed 1-19-07; 8:45 am]

BILLING CODE 4909-60-M